DEPARTMENT OF ENERGY

Federal Energy Regulatory Commission

Combined Notice of Filings # 1

March 3, 2008.

Take notice that the Commission received the following electric rate filings:

Docket Numbers: ER01-642-010; ER07-312-002; ER01-1335-012; ER01-1011-014.

Applicants: CottonWood Energy Company LP; Dogwood Energy LLC; Magnolia Energy LP; Redbud Energy LP.

Description: Cottonwood Energy Co, LP et al. submits notice of change in status under ER01-642 et al.

Filed Date: 02/12/2008

Accession Number: 20080214-0047.

Comment Date: 5 p.m. Eastern Time on Tuesday, March 11, 2008.

Docket Numbers: ER06-758-004; ER08-201-002; ER06-635-003; ER02-237-010; ER08-202-002; ER95-1007-022; ER01-2741-007; ER07-34-004; ER03-1151-006; ER00-2235-004; ER99-3320-007; ER06-759-003; ER03-922-007; ER06-634-003.

Applicants: Chambers Cogeneration, Limited Partnership; Cogentrix Virginia Leasing Corporation; Edgecombe Genco, LLC; J. Aron & Company; James River Cogeneration Company, LLC; Logan Generating Company, LP; Plains End, LLC; Plains End II, LLC; Power Receivable Finance, LLC; Quachita Power, LLC; Rathdrum Power, LLC; Selkirk Cogen Partners, L.P.; Southaven Power, LLC; Spruance Genco, LLC.

Description: Chambers Cogenerations, Limted Partnership submits a notice of non-material change in status.

Filed Date: 02/28/2008.

Accession Number: 20080229-0090.

Comment Date: 5 p.m. Eastern Time on Thursday, March 20, 2008.

Docket Numbers: ER02-1695-005; ER01-2742-007; ER02-2309-004.

Applicants: Cabazon Wind Partners, LLC; Rock River I, LLC; Whitewater Hill Wind Partners LLC.

Description: Cabazon Wind Partners et al. submits a notice of non-material change in status.

Filed Date: 02/28/2008.

Accession Number: 20080229-0091.

Comment Date: 5 p.m. Eastern Time on Thursday, March 20, 2008.

Docket Numbers: ER04-708-005.

Applicants: Horsehead Corp.

Description: Horsehead Corp. submits revisions to its market-based rate schedule and notice of non-material change in status in connection with the transaction approved by the Commission in Docket EC08-29.

Filed Date: 02/28/2008

Accession Number: 20080229-0092.

Comment Date: 5 p.m. Eastern Time on Thursday, March 20, 2008.

Docket Numbers: ER08-149-001.

Applicants: Northeast Utilities Service Company.

Description: Compliance Filing of Northeast Utilities Service Company containing supplemental information regarding deferred Regional Transmission Organization formation costs.

Filed Date: 02/12/2008.

Accession Number: 20080212-5039.

Comment Date: 5 p.m. Eastern Time on Friday, March 14, 2008.

Docket Numbers: ER08-364-001.

Applicants: APX, Inc.

Description: APX Inc. submits a non-material change status.

Filed Date: 02/28/2008.

Accession Number: 20080229-0093.

Comment Date: 5 p.m. Eastern Time on Thursday, March 20, 2008.

Docket Numbers: ER08-514-001.

Applicants: Arizona Public Service Company.

Description: Withdrawal of Application of Arizona Public Service Company.

Filed Date: 02/28/2008

Accession Number: 20080228-5068.

Comment Date: 5 p.m. Eastern Time on Thursday, March 20, 2008.

Docket Numbers: ER08-558-001.

Applicants: WSPP Inc.

Description: Entergy Texas Inc. requests that the Commission accept an amendment to the WSPP Agreement and include ETI as a participant.

Filed Date: 02/28/2008.

Accession Number: 20080229-0094.

Comment Date: 5 p.m. Eastern Time on Thursday, March 20, 2008.

Docket Numbers: ER08-611-000.

Applicants: Niagara Mohawk Power Corporation.

Description: Niagara Mohawk Power Corp. submits an executed Agreement for Substation Services with Nine Mile Point Nuclear Station, LLC.

Filed Date: 02/28/2008.

Accession Number: 20080229-0084.

Comment Date: 5 p.m. Eastern Time on Thursday, March 20, 2008.

Docket Numbers: ER08-612-000.

Applicants: Arizona Public Service Company.

Description: Arizona Public Service Company submits a Notice of Cancellation of a Lease Power Agreement dated 3/1/02 with Electrical District 1 of Pinal County, AZ etc.

Filed Date: 02/28/2008.

Accession Number: 20080229-0085.

Comment Date: 5 p.m. Eastern Time on Thursday, March 20, 2008.

Docket Numbers: ER08-613-000.

Applicants: Niagara Mohawk Power Corporation.

Description: Niagara Mohawk Power Corp. submits executed Facilities Agreement with Power Authority of the State of New York dated 7/23/01.

Filed Date: 02/28/2008.

Accession Number: 20080229-0086.

Comment Date: 5 p.m. Eastern Time on Thursday, March 20, 2008.

Docket Numbers: ER08-614-000.

Applicants: PJM Interconnection, LLC.

Description: PJM Interconnection, LLC submits an executed interconnection service agreement with North Allegheny Wind, LLC et al.

Filed Date: 02/28/2008.

Accession Number: 20080229-0087.

Comment Date: 5 p.m. Eastern Time on Thursday, March 20, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-4746 Filed 3-10-08; 8:45 am]

BILLING CODE 6717-01-P